DEPARTMENT OF THE TREASURY

Treasury Inspector General for Tax Administration; Privacy Act of 1974: Computer Matching Program

AGENCY: Treasury Inspector General for Tax Administration, Treasury.

ACTION: Notice.

SUMMARY: Pursuant to 5 U.S.C. 552a, the Privacy Act of 1974, as amended, notice is hereby given of the agreement between the Treasury Inspector General for Tax Administration (TIGTA) and the Internal Revenue Service (IRS) concerning the conduct of TIGTA's matching program.

DATES: Effective Date: June 23, 2004.

ADDRESSES: Comments or inquires may be mailed to the Treasury Inspector General for Tax Administration, 1125 15th Street, NW., Washington, DC 20005.

FOR FURTHER INFORMATION CONTACT: Disclosure Officer, Treasury Inspector General for Tax Administration, (202) 622-4068.

SUPPLEMENTARY INFORMATION: TIGTA's computer matching program will enable TIGTA to prevent and detect fraud and abuse in the programs and operations of the IRS and related entities. TIGTA's computer matching program is also designed to proactively detect indicators of misconduct and to discourage/deter the perpetration of illegal acts and misconduct by IRS employees. Further, this program will utilize computer matches to identify alleged misconduct and criminal violations. Computer matching is the most feasible method of performing comprehensive analysis of data.

Name of Source Agency: Internal Revenue Service.

Name of Recipient Agency: Treasury Inspector General for Tax Administration.

Beginning and Completion Dates: This program of computer matches is expected to commence on June 1, 2004, but not earlier than the fortieth day after copies of the Computer Matching Agreement are provided to the Congress and OMB unless comments dictate otherwise. The program of computer matches is expected to conclude on February 28, 2006.

Purpose: This program is designed to deter and detect fraud, waste, and abuse in Internal Revenue Service programs and operations, to identify employees who have violated or are violating laws, rules, or regulations, and to protect against attempts to corrupt or threaten the IRS and/or its employees.

Authority: The Inspector General Act of 1978, 5 U.S.C. appendix 3 and Treasury Order 115-01.

Categories of Individuals Covered: Current and former employees of the Internal Revenue Service as well as individuals and entities about whom information is maintained in the systems of records listed below.

Categories of Records Covered: Included in this program of computer matches are records from the following forty-seven (47) Treasury or Internal Revenue Service systems.

a. Treasury Integrated Management Information System (TIMIS) [Treasury/DO.002].

b. FinCEN Data Base [Treasury/DO.200].

c. Treasury Integrated Financial Management and Revenue System [Treasury/DO.210].

d. Suspicious Activity Reporting System [Treasury/DO.212].

e. Bank Secrecy Act Reports System [Treasury/DO.213].

f. Correspondence Files (including Stakeholder Relationship files) and Correspondence Control Files [Treasury/IRS 00.001].

g. Correspondence Files/Inquiries About Enforcement Activities [Treasury/IRS 00.002].

h. Taxpayer Advocate Service and Customer Feedback and Survey Records System [Treasury/IRS 00.003].

i. Foreign Information System (FIS) [Treasury/IRS 22.027].

j. Individual Returns Files, Adjustments and Miscellaneous Documents Files [Treasury/IRS 22.034].

k. Unidentified Remittance File [Treasury/IRS 22.059].

l. Automated Non-Master File (ANMF) [Treasury/IRS 22.060].

m. Information Return Master File (IRMF) [Treasury/IRS 22.061].

n. Combined Account Number File, Taxpayer Services [Treasury/IRS 24.013].

o. Individual Account Number File (IANF) [Treasury/IRS 24.029].

p. CADE Individual Master File (IMF) [Treasury/IRS 24.030].

q. CADE Business Master File (BMF) [Treasury/IRS 24.046].

r. Audit Underreporter Case File [Treasury/IRS 24.047].

s. Debtor Master File (DMF) [Treasury/IRS 24.070].

t. Acquired Property Records [Treasury/IRS 26.001].

u. IRS and Treasury Employee Delinquency [Treasury/IRS 26.008].

v. Lien Files (Open and Closed) [Treasury/IRS 26.009].

w. Offer in Compromise (OIC) File [Treasury/IRS 26.012].

x. Record 21, Record of Seizure and Sale of Real Property [Treasury/IRS 26.014].

y. Returns Compliance Programs (RCP) [Treasury/IRS 26.016].

z. Taxpayer Delinquent Account (TDA) Files [Treasury/IRS 26.019].

aa. Taxpayer Delinquency Investigation (TDI) Files [Treasury/IRS 26.020].

bb. Counsel Automated Tracking System (CATS) Records [Treasury/IRS 90.016].

cc. Audit Trail Lead Analysis System (ATLAS) [Treasury/IRS 34.020].

dd. General Personnel and Payroll Records [Treasury/IRS 36.003].

ee. Medical Records [Treasury/IRS 36.005].

ff. Enrolled Agents and Resigned Enrolled Agents [Treasury/IRS 37.009].

gg. Examination Administrative File [Treasury/IRS 42.001].

hh. Audit Information Management System (AIMS) [Treasury/IRS 42.008].

ii. Internal Revenue Service Employees' Returns Control Files [Treasury/IRS 42.014].

jj. Classification/Centralized and Scheduling Files [Treasury/IRS 42.016].

kk. Compliance Programs and Projects Files [Treasury/IRS 42.021].

ll. Appeals Centralized Data System [Treasury/IRS 44.003].

mm. Criminal Investigation Management Information System [Treasury/IRS 46.002].

nn. Controlled Accounts (Open and Closed) [Treasury/IRS 46.004].

oo. Treasury Enforcement Communications System (TECS) Criminal Investigation Division [Treasury/IRS 46.022].

pp. Automated Information Analysis System [Treasury/IRS 46.050].

Dated: June 15, 2004.
Jesus H. Delgado-Jenkins,
Acting Assistant Secretary for Management.

[FR Doc. 04-14127 Filed 6-22-04; 8:45 am]

BILLING CODE 4810-04-P